DEPARTMENT OF THE INTERIOR

Fish and Wildlife Service

[FWS-R2-ES-2018-N041; FXES11130200000-189-FF02ENEH00]

U.S. Endangered Species; Recovery Permit Applications

AGENCY: Fish and Wildlife Service, Interior.

ACTION: Notice of receipt of permit applications; request for comments.

SUMMARY: We, the U.S. Fish and Wildlife Service, invite the public to comment on the following applications for a permit to conduct activities intended to recover and enhance endangered species survival. With some exceptions, the Endangered Species Act of 1973, as amended (ESA), prohibits certain activities that may impact endangered species unless a Federal permit allows such activity. The ESA also requires that we invite public comment before issuing these permits.

DATES: To ensure consideration, please send your written comments by May 21, 2018.

ADDRESSES: Request documents or submit comments to Susan Jacobsen, Chief, Classification and Restoration Division, by U.S. mail to U.S. Fish and Wildlife Service, P.O. Box 1306, Albuquerque, NM 87103. Please specify the permit you are interested in by number (e.g., Permit No. TE-123456).

FOR FURTHER INFORMATION CONTACT: Susan Jacobsen, Chief, Classification and Restoration Division, by U.S. mail or by telephone at 505-248-6641.

SUPPLEMENTARY INFORMATION: We, the U.S. Fish and Wildlife Service, invite the public to comment on the following applications for a permit to conduct activities intended to recover and enhance endangered species survival. With some exceptions, the Endangered Species Act of 1973, as amended (ESA; 16 U.S.C. 1531 et seq.), prohibits certain activities that may impact endangered species, unless a Federal permit allows such activity. The ESA also requires that we invite public comment before issuing these permits.

Background

The ESA prohibits certain activities with endangered and threatened species unless a Federal permit authorizes them. The ESA and our implementing regulations in the Code of Federal Regulations (CFR), title 50, part 17, provide for issuing such permits and require that we invite public comment before issuing permits for activities involving endangered species.

A recovery permit we issue under section 10(a)(1)(A) of the ESA authorizes the permittee to conduct activities with endangered or threatened species for scientific purposes that promote recovery or enhance the species' propagation or survival. Our regulations implementing section 10(a)(1)(A) for these permits are found at 50 CFR 17.22 for endangered wildlife species, 50 CFR 17.32 for threatened wildlife species, 50 CFR 17.62 for endangered plant species, and 50 CFR 17.72 for threatened plant species.

In accordance with section 10(c) of the ESA, we invite public comment on these permit applications before we take final action.

Applications Available for Review and Comment

We invite local, State, Tribal, and Federal agencies and the public to comment on the following applications. Please refer to the permit number for the application when submitting comments.

Documents and other information submitted with these applications are available for review by any party who submits a written request to the contact in ADDRESSES. Requests must be submitted by the date in DATES. Our release of documents is subject to Privacy Act (5 U.S.C. 552a) and Freedom of Information Act (5 U.S.C. 552) requirements.

Permit Applications

Proposed activities in the following permit requests are for the species' recovery and survival enhancement.

Application No. | Applicant | Species | Location | Activity | Type of take | Permit action
TE-166250 | Miami University, Oxford, Ohio | Texas hornshell (Popenaias popeii) | New Mexico and Texas | Presence/absence surveys; handling; tagging; collection; and salvage | Collect; harm; and harass | Amend.
TE-037155 | Bio-West, Inc., Round Rock, Texas | Texas hornshell (Popenaias popeii) | New Mexico and Texas | Presence/absence surveys; handling | Harm and harass | Amend.
TE-018475 | New Mexico Department of Game and Fish, Santa Fe, New Mexico | Texas hornshell (Popenaias popeii) | New Mexico | Presence/absence surveys; handling; tagging; collection; transport; culture; and research | Collect; kill; harm; and harass | Amend.
TE-78507C | James A. Stoeckel, Auburn, Alabama | Texas hornshell (Popenaias popeii) | New Mexico and Texas | Presence/absence surveys; handling; tagging; collection; transport; culture; and research | Collect; kill; harm; and harass | New.
TE-79165C | Charles R. Randklev, Dallas, Texas | Texas hornshell (Popenaias popeii) | New Mexico and Texas | Presence/absence surveys; handling; tagging; collection; transport; culture; and research | Collect; kill; harm; and harass | New.
TE-814933 | Texas Parks and Wildlife Department, Austin, Texas | Texas hornshell (Popenaias popeii) | Texas | Presence/absence surveys; handling; tagging; collection; transport; culture; and research | Collect; kill; harm; and harass | Amend.

Public Availability of Comments

All comments and materials we receive in response to these requests will be available for public inspection, by appointment, during normal business hours at the address listed in ADDRESSES.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the ESA (16 U.S.C. 1531 et seq.).

Dated: March 16, 2018.
Amy L. Lueders,
Regional Director, Southwest Region, U.S. Fish and Wildlife Service.

[FR Doc. 2018-08197 Filed 4-18-18; 8:45 am]

BILLING CODE 4333-15-P